DEPARTMENT OF THE INTERIOR

Fish and Wildlife Service

[FWS-R1-R-2015-N085: 1265-0000-10137-S3]

Grays Harbor National Wildlife Refuge and Black River Unit of Billy Frank Jr. Nisqually National Wildlife Refuge, Grays Harbor and Thurston Counties, WA; Draft Comprehensive Conservation Plan and Environmental Assessment

AGENCY: Fish and Wildlife Service, Interior.

ACTION: Notice of availability; request for comments.

SUMMARY: We, the U.S. Fish and Wildlife Service (Service), announce the availability of the draft comprehensive conservation plan and environmental assessment (draft CCP/EA) for Grays Harbor National Wildlife Refuge (Refuge) and the Black River Unit (Unit) of Billy Frank Jr. Nisqually National Wildlife Refuge (collectively, Refuges) for public review and comment. The draft CCP/EA describes our proposal for managing the Refuges for a period of 15 years following approval of the final CCP.

DATES: To ensure consideration, please send your written comments by November 25, 2016.

ADDRESSES: You may review the draft CCP/EA on the following agency Web sites, and in person at the following mail address—please call 360-753-9467 to make an appointment during regular business hours. The draft CCP/EA is also available at the libraries listed under SUPPLEMENTARY INFORMATION. You may submit comments, requests for more information, or requests for CD-ROM copies of the draft CCP/EA, by one of the following methods.

Email: FW1PlanningComments@fws.gov. Include “Grays Harbor/Black River CCP” in the subject line of the message.

Agency Web sites: https://www.fws.gov/refuge/Billy_Frank_Jr_Nisqually/ and https://www.fws.gov/refuge/grays_harbor/.

Fax: Attn: Glynnis Nakai, 360-534-9302.

Mail: Billy Frank Jr. Nisqually National Wildlife Refuge Complex, 100 Brown Farm Road, Olympia, WA 98516.

Hand Delivery/Courier: You may drop off comments during regular business hours at the above mail address.

FOR FURTHER INFORMATION CONTACT: Glynnis Nakai, Project Leader, 360-753-9467 (phone).

SUPPLEMENTARY INFORMATION:

Introduction

With this notice, we continue the CCP process for the Refuges. We started this process by publishing a notice in the Federal Register on June 8, 2011 (76 FR 33339). For more information about the Refuges, see that notice.

Background

The National Wildlife Refuge System Administration Act of 1966, 16 U.S.C. 668dd-668ee (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Draft CCP/EA

The draft CCP/EA includes detailed information about our planning process, the Refuges' resources and issues, and our proposed management alternatives. Find the draft CCP/EA on our Web sites: www.fws.gov/refuge/Billy_Frank_Jr_Nisqually/ and www.fws.gov/refuge/grays_harbor/.

Public Involvement

Public comments are requested, considered, and incorporated throughout the planning process. Comments on the draft CCP/EA will be analyzed by the Service and addressed in the final planning documents.

Public Availability of Documents

The draft CCP/EA is available at the following libraries, and through the sources identified under ADDRESSES.

Hoquiam Timberland Library, 420 7th Street, Hoquiam, WA 98550

Aberdeen Timberland Library, 121 East Market Street, Aberdeen, WA 98520

Tumwater Timberland Library, 7023 New Market Street, Tumwater, WA 98501

Public Availability of Comments

Before including your address, phone number, email address, or other personal identifying information in your comment, you should be aware that your entire comment—including your personal identifying information—may be made publicly available at any time. While you can ask us in your comment to withhold your personal identifying information from public review, we cannot guarantee that we will be able to do so.

Robyn Thorson,
Regional Director, Pacific Region, Portland, Oregon.

[FR Doc. 2016-25367 Filed 10-25-16; 8:45 am]

BILLING CODE 4310-55-P